DEPARTMENT OF ENERGY

Federal Energy Regulatory Commission

[Project No. 6731-014]

Aquenergy Systems, Inc.; Coneross Power Corporation; Notice of Application for Partial Transfer of License and Soliciting Comments, Motions To Intervene, and Protests

On April 19, 2016, Aquenergy Systems, Inc. and Coneross Power Corporation (co-licensees) filed an application for the partial transfer of license of the Coneross Hydroelectric Project No. 6731. The project is located on Coneross Creek in Oconee County, South Carolina. The project does not occupy Federal lands.

The applicants seek Commission approval to partially transfer the license for the Coneross Hydroelectric Project from the co-licenses to Coneross Power Corporation as sole licensee.

Applicants Contact: For co-licensees: Ms. Megan Beauregard, Senior Associate General Counsel, Enel Green Power North America, Inc., One Tech Drive, Suite 220, Andover, MA 01810, Telephone: 978-681-1900, Email: megan.beauregard@enel.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-6731-014.

Dated: May 2, 2016.
Kimberly D. Bose,
Secretary.

[FR Doc. 2016-10665 Filed 5-5-16; 8:45 am]

BILLING CODE 6717-01-P